DEPARTMENT OF LABOR

Office of Labor-Management Standards

29 CFR Part 404

Labor Organization Officer and Employee Reports

CFR Correction

In Title 29 of the Code of Federal Regulations, Parts 100 to 499, revised as of July 1, 2009, on page 153, in § 404.1, remove the first paragraph (i), including its subparagraphs (1) through (4).

[FR Doc. 2010-1740 Filed 1-26-10; 8:45 am]

BILLING CODE 1505-01-D